DEPARTMENT OF HEALTH AND HUMAN SERVICES

Health Resources and Services Administration

Meeting of the Advisory Commission on Childhood Vaccines

AGENCY: Health Resources and Services Administration (HRSA), Department of Health and Human Services (HHS).

ACTION: Notice.

SUMMARY: In accordance with the Federal Advisory Committee Act, this notice announces that the Advisory Commission on Childhood Vaccines (ACCV) will hold public meetings for the 2020 calendar year (CY). Information about ACCV, agendas, and materials for these meetings can be found on the ACCV website at https://www.hrsa.gov/advisory-committees/vaccines/index.html.

DATES: ACCV meetings will be held on:

• March 5-6, 2020;

• June 4-5, 2020;

• September 3-4, 2020; and

• December 3-4, 2020.

These meetings will be held from 9:00 a.m.-5:00 p.m. Eastern Time.

ADDRESSES: Meetings may be held in-person, by teleconference, and/or Adobe Connect webinar. In-person ACCV meetings will be held at 5600 Fishers Lane, Rockville, Maryland 20857. Instructions for joining the meetings either in-person or remotely will be posted on the ACCV website 30 business days before the date of the meeting. For meeting information updates, go to the ACCV website at https://www.hrsa.gov/advisory-committees/vaccines/index.html.

FOR FURTHER INFORMATION CONTACT: Annie Herzog, Division of Injury Compensation Programs, HRSA, 5600 Fishers Lane, 08N186B, Rockville, Maryland 20857; 301-443-6634; or aherzog@HRSA.gov.

SUPPLEMENTARY INFORMATION: The ACCV provides advice and recommendations to the Secretary of HHS on policy, program development, and other issues related to implementation of the National Vaccine Injury Compensation Program (VICP) and concerning other matters as described under section 2119 of the Public Health Service Act (42 U.S.C. 300aa-19).

Agenda items and meeting times are subject to change as priorities dictate. Refer to the ACCV website listed above for any meeting updates that may occur. For CY 2020 meetings, agenda items may include, but are not limited to updates from: (1) The Division of Injury Compensation Programs; (2) Department of Justice; (3) Office of Infectious Disease and HIV/AIDS Policy (HHS); (4) Immunization Safety Office (Centers for Disease Control and Prevention); (5) National Institute of Allergy and Infectious Diseases (National Institutes of Health); and, (6) Center for Biologics, Evaluation and Research (Food and Drug Administration). Refer to the ACCV website listed above for all current and updated information concerning the CY 2020 ACCV meetings, including draft agendas and meeting materials that will be posted 5 calendar days before the meeting.

Members of the public will have the opportunity to provide comments. Public participants may submit written statements in advance of the scheduled meeting(s). Oral comments will be honored in the order they are requested and may be limited as time allows. Requests to submit a written statement or make oral comments to ACCV should be sent to Annie Herzog using the contact information above at least 5 business days before the meeting date(s).

Individuals who need special assistance or another reasonable accommodation should notify Annie Herzog using the contact information listed above at least 10 business days before the meeting(s) they wish to attend. Since all in person meetings will occur in a federal government building, attendees must go through a security check to enter the building. Non-U.S. Citizen attendees must notify HRSA of their planned attendance at least 20 business days prior to the meeting in order to facilitate their entry into the building. All attendees are required to present government-issued identification prior to entry.

Maria G. Button,
Director, Executive Secretariat.

[FR Doc. 2019-28294 Filed 12-31-19; 8:45 am]

BILLING CODE 4165-15-P